COMMITTEE FOR THE IMPLEMENTATION OF TEXTILE AGREEMENTS

Cancellation of Certain Export Visa Requirements for Certain Cotton, Wool, Man-Made Fiber, Silk Blend and Other Vegetable Fiber Textiles and Textile Products Produced or Manufactured in Lesotho

June 26, 2001.

AGENCY: Committee for the Implementation of Textile Agreements (CITA).

ACTION: Issuing a directive to the Commissioner of Customs canceling certain export visa requirements.

EFFECTIVE DATE: August 20, 2001.

FOR FURTHER INFORMATION CONTACT: Naomi Freeman, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

On December 9, 1992, the Governments of the United States and the Kingdom of Lesotho agreed to establish an export visa arrangement for certain textiles and textile products, produced or manufactured in Lesotho and exported from Lesotho. CITA directed the U.S. Customs Service to prohibit entry of textile and textile products covered by the arrangement for which the Government of Lesotho had not issued an appropriate export visa. (See 58 FR 26121, published on April 30, 1993).

The African Growth and Opportunity Act (AGOA) provides that eligible textile and apparel articles enter free of duty and free of quantitative limitation, provided, inter alia, that the country has adopted an effective visa system to prevent unlawful transshipment of the articles and the use of counterfeit documents relating to importation of the articles into the United States. Pursuant to this requirement, the Governments of the United States and Lesotho agreed to a new, AGOA visa system, which entered into effect on April 23, 2001. (See 66 FR 21192, published on April 27, 2001)

As a result of the new, AGOA visa system, the Governments of the United States and Lesotho have agreed to terminate the 1992 visa arrangement, effective August 20, 2001. On and after this date, textiles and textile products will not be subject to the requirements of the 1992 visa arrangement. However, importers claiming preferential tariff treatment under the AGOA for entries of textile and apparel articles should ensure that those entries meet the requirements of the new, AGOA visa system. (See 66 FR 7837, published on January 25, 2001).

D. Michael Hutchinson,
Acting Chairman, Committee for the Implementation of Textile Agreements.

Committee for the Implementation of Textile Agreements

June 26, 2001.

Commissioner of Customs,

Department of the Treasury, Washington, DC 20229.

Dear Commissioner: This directive cancels and supersedes the directive issued to you on April 23, 1993, by the Chairman, Committee for the Implementation of Textile Agreements. That directive directs you to prohibit entry of certain cotton, wool, man-made fiber, silk blend and other vegetable fiber textiles and textile products, produced or manufactured in Lesotho which were not properly visaed by the Government of Lesotho.

The African Growth and Opportunity Act (AGOA) provides that eligible textile and apparel articles enter free of duty and free of quantitative limitation, provided, inter alia, that the country has adopted an effective visa system to prevent unlawful transshipment of the articles and the use of counterfeit documents relating to importation of the articles into the United States. Pursuant to this requirement, the Governments of the United States and Lesotho agreed to a new, AGOA visa system, which entered into effect on April 23, 2001. (See 66 FR 21192, published on April 27, 2001)

As a result of the new, AGOA visa system, the Governments of the United States and Lesotho have agreed to terminate the 1992 visa arrangement, effective August 20, 2001. On and after this date, textiles and textile products will not be subject to the requirements of the 1992 visa arrangement. However, importers claiming preferential tariff treatment under the AGOA for entries of textile and apparel articles should ensure that those entries meet the requirements of the new, AGOA visa system. (See 66 FR 7837, published on January 25, 2001).

Therefore, effective on August 20, 2001, you are directed to terminate the textile visa requirement set forth in the April 23, 1993 directive. Importers claiming preferential tariff treatment under the AGOA for entries of textile and apparel articles must continue to meet the requirements of the new, AGOA visa system. (See 66 FR 7837, published on January 25, 2001)

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc. 01-16591 Filed 6-29-01; 8:45 am]

BILLING CODE 3510-DR-F